DEPARTMENT OF THE INTERIOR

Bureau of Ocean Energy Management, Regulation and Enforcement

[Docket No. BOEM-2010-0040]

BOEMRE Information Collection Activities: 1010-0172, Open and Nondiscriminatory Access to Oil and Gas Pipelines; Comment Request

AGENCY: Bureau of Ocean Energy Management, Regulation and Enforcement (BOEMRE), Interior.

ACTION: Notice of a renewal of an information collection (1010-0172).

SUMMARY: To comply with the Paperwork Reduction Act of 1995 (PRA), we are notifying the public that we have submitted to the Office of Management and Budget (OMB) an information collection request (ICR) to renew approval of the paperwork requirements in the regulations under 30 CFR Part 291. This notice also provides the public a second opportunity to comment on the paperwork burden of these regulatory requirements.

DATES: Submit written comments by April 28, 2011.

ADDRESSES: Submit comments by either fax (202) 395-5806 or e-mail (OIRA_DOCKET@omb.eop.gov) directly to the Office of Information and Regulatory Affairs, OMB, Attention: Desk Officer for the Department of the Interior (1010-0172). Please also submit a copy of your comments to BOEMRE by any of the means below.

• Electronically: go to http://www.regulations.gov. In the entry titled, “Enter Keyword or ID,” enter “BOEM-2010-0040,” then click search. Follow the instructions to submit public comments and view supporting and related materials available for this collection. BOEMRE will post all comments.

• E-mail arlene.bajusz@boemre.gov. Mail or hand-carry comments to the Department of the Interior; Bureau of Ocean Energy Management, Regulation and Enforcement; Attention: Arlene Bajusz; 381 Elden Street, MS-4020; Herndon, Virginia 20170-4817. Please reference ICR 1010-0172 in your comment and include your name and return address.

FOR FURTHER INFORMATION CONTACT: Arlene Bajusz, Policy and Management Improvement at (703) 787-1025. To see a copy of the entire ICR submitted to OMB, go to http://www.reginfo.gov (Information Collection Review, Currently Under Review, Department of the Interior, DOI-BOEM).

SUPPLEMENTARY INFORMATION:

Title: 30 CFR Part 291, Open and Nondiscriminatory Access to Oil and Gas Pipelines under the OCS Lands Act.

OMB Control Number: 1010-0172.

Abstract: The Outer Continental Shelf (OCS) Lands Act (43 U.S.C. 1331 et seq.), as amended, requires the Secretary of the Interior to preserve, protect, and develop OCS oil, gas, and sulphur resources; make such resources available to meet the Nation's energy needs; balance orderly energy resources development with protection of the human, marine, and coastal environments; ensure the public a fair and equitable return on the resources offshore; and preserve and maintain free enterprise competition.

Section 1334(f)(1) states “Except as provided in paragraph (2), every permit, license, easement, right-of-way, or other grant of authority for the transportation by pipeline on or across the outer Continental Shelf of oil or gas shall require that the pipeline be operated in accordance with the following competitive principles: (A) The pipeline must provide open and nondiscriminatory access to both owner and non-owner shippers* * * .”

Ensuring open and nondiscriminatory access to pipelines is among the responsibilities delegated to BOEMRE, which replaced the Minerals Management Service on June 18, 2010. In order to provide shippers with a methodology to file complaints alleging denial of access or that access is discriminatory access, the BOEMRE promulgated regulations at 30 CFR Part 291. The BOEMRE will use the information submitted during the complaint process to determine whether the shipper has been denied such access or to initiate a more detailed investigation into the specific circumstances of the complainant's allegation. The complaint information will be provided to the alleged offending party. The BOEMRE may request additional information upon completion of the initial investigation.

We will protect information from respondents considered proprietary under the Freedom of Information Act (5 U.S.C. 552) and its implementing regulations (43 CFR Part 2). No items of a sensitive nature are collected. Responses are required to obtain a benefit.

Frequency: The frequency is on occasion.

Description of Respondents: Shippers that do business on the OCS and companies that pay royalties on the OCS.

Estimated Annual Reporting and Recordkeeping Hour Burden: The estimated annual hour burden for this collection is 51 hours. Refer to the table below for a break down of the complete burden. This includes the time for reviewing instructions, gathering and maintaining data, and completing and reviewing the information.

Citation 30 CFR 291 | Reporting and recordkeeping requirement | Hour burden | Average number annual responses | Annual burden hours
105, 106, 108, 109, 111 | Submit complaint (with fee) to BOEMRE and affected parties. Request confidential treatment and respond to BOEMRE decision | 50 $7,500 processing fee | 1 | 50 $7,500
106(b), 109 | Request waiver or reduction of fee | 1 | 1 | 1
104(b), 107, 111 | Submit response to a complaint. Request confidential treatment and respond to BOEMRE decision |  |  | 0
110 | Submit required information for BOEMRE to make a decision | Information required after an investigation is opened against a specific entity is exempt under the PRA (5 CFR 1320.4) |  |
114, 115(a) | Submit appeal on BOEMRE final decision |  |  |
Total Burden |  |  | 2 | 51

Estimated Annual Reporting and Recordkeeping Non-Hour Cost Burden: We have identified a “non-hour” cost burden of $7,500, which is a nonrefundable fee for each complaint submitted to recover the Federal Government's processing costs.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “ * * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on September 20, 2010, we published a Federal Register notice (75 FR 57285) announcing that we would submit this ICR to OMB for approval. The notice provided the required 60-day comment period. The PRA (5 U.S.C. 1320) informs the public that they may comment at any time on the collection of information and BOEMRE provides the address to which they should send comments. We received one comment, but it did not pertain to the information collection; therefore, no change was made in the burden estimate.

If you wish to comment in response to this notice, you may send your comments to the offices listed under the ADDRESSES section of this notice. The OMB has up to 60 days to approve or disapprove the information collection but may respond after 30 days. Therefore, to ensure maximum consideration, OMB should receive public comments by April 28, 2011.

Public Availability of Comments: Before including your address, phone number, email address, or other personal identifying information in your comment, you should be aware that your entire comment-including your personal identifying information-may be made publicly available at any time. While you can ask us in your comment to withhold your personal identifying information from public review, we cannot guarantee that we will be able to do so.

BOEMRE Information Collection Clearance Officer: Arlene Bajusz (703) 787-1025.

Dated: March 18, 2011.
George F. Triebsch,
Associate Director, Policy and Management Improvement.

[FR Doc. 2011-7257 Filed 3-28-11; 8:45 am]

BILLING CODE 4310-MR-P